INTER-AMERICAN FOUNDATION BOARD MEETING

Notice of Sunshine Act Meetings

TIME AND DATE: March 26, 2012, 9 a.m.-1:30 p.m.

PLACE: 901 N. Stuart Street, Tenth Floor, Arlington, Virginia 22203.

STATUS: Open to the public except for the portion specified as closed session as provided in 22 CFR 1004.4(f).

MATTERS TO BE CONSIDERED:

Approval of the Minutes of the December 12, 2011, Meeting of the Board of Directors

Management Report

IAF Fellows Mid-Year Conference

Grantee Perception Report

Next Meetings

Executive Session

PORTIONS TO BE OPEN TO THE PUBLIC:

Approval of the Minutes of the December 12, 2011, Meeting of the Board of Directors

Management Report

IAF Fellows Mid-Year Conference

Grantee Perception Report

Next Meetings

PORTIONS TO BE CLOSED TO THE PUBLIC:

Executive Session—Closed session as provided in 22 CFR 1004.4 (f).

CONTACT PERSON FOR MORE INFORMATION:

• Paul Zimmerman, General Counsel, (703) 306-4320.

Paul Zimmerman,
General Counsel.

[FR Doc. 2012-6375 Filed 3-13-12; 11:15 am]

BILLING CODE 7025-01-P